Title 3—

The President

Proclamation 10453 of September 23, 2022

National Hunting and Fishing Day, 2022

By the President of the United States of America

A Proclamation

Every year, tens of millions of Americans take to the great outdoors to hunt and fish. These time-honored traditions offer opportunities for sport and leisure, put food on our tables, and bring families and friends together. They embody the American spirit of adventure and resourcefulness and inspire gratitude for the beauty and bounty of our natural world. On National Hunting and Fishing Day, we celebrate America's hunters and anglers for strengthening our communities and recommit ourselves to conserving lands and waters so future generations can enjoy these beloved pastimes.

Hunting and fishing are more than just hobbies—they also sustain livelihoods. They contribute billions of dollars annually to our Nation's economy and support over a million jobs in the United States. They bring important tourism dollars to communities and create new business opportunities for local entrepreneurs. To strengthen these industries, my Administration expanded hunting and fishing opportunities on 2.1 million acres of public lands last year, one of the largest increases in recent history. We have also proposed additional expansions to the number of Federal land and water units within the National Wildlife Refuge System where hunting and fishing are permitted.

The future of hunting and fishing depends on our ability to conserve America's public lands and natural spaces. Over the years, the twin crises of biodiversity loss and climate change have made healthy fish and game harder to find. Hunters and anglers have been some of our Nation's earliest conservation leaders, and they continue to be an integral part of the solution. Additionally, for nearly a century, Federal programs that direct revenue from equipment and license sales have funded State and local conservation efforts throughout the country, bringing in more than $25.5 billion to date. To bolster the impact of these programs, my Administration recently announced a record investment of $1.5 billion in annual funding to support State and local wildlife and habitat conservation efforts and outdoor recreation. We also established the Federal Interagency Council on Outdoor Recreation to coordinate efforts between the Departments of the Interior, Agriculture, Defense-Civil Works, and Commerce to strengthen the outdoor recreation economy. And my Administration's America the Beautiful Initiative set a national goal of conserving at least 30 percent of our Nation's lands and waters by 2030, launching a decade-long effort to support locally led and voluntary conservation and restoration projects. This work is tied to our fight against the climate crisis, our pledge to drastically reduce emissions, and our duty to build a better, healthier world.

As we reflect on the long-cherished traditions and cultural heritage of hunting and fishing, we recognize America's hunters and anglers in their pursuit of adventure and commitment to conserve our natural world. We recommit to strengthening the hunting and fishing industries in a responsible and sustainable way while supporting the people whose livelihoods depend on them. And we renew our efforts to build partnerships with hunters and anglers; agricultural and forest landowners; outdoor enthusiasts; Tribal Nations, States, and territories; local officials; and other important stakeholders to make public lands accessible to all Americans and keep our outdoor spaces healthy and resilient for generations to come.

NOW, THEREFORE, I, JOSEPH R. BIDEN JR., President of the United States of America, by virtue of the authority vested in me by the Constitution and the laws of the United States, do hereby proclaim September 24, 2022, as National Hunting and Fishing Day. I call upon all Americans to observe this day with appropriate programs and activities.

IN WITNESS WHEREOF, I have hereunto set my hand this twenty-third day of September, in the year of our Lord two thousand twenty-two, and of the Independence of the United States of America the two hundred and forty-seventh.

[FR Doc. 2022-21139

Filed 9-27-22; 8:45 am]

Billing code 3395-F2-P